DEPARTMENT OF THE INTERIOR

National Park Service

[NPS-WASO-NRNHL-24122; PPWOCRADI0, PCU00RP14.R50000]

National Register of Historic Places; Notification of Pending Nominations and Related Actions

AGENCY: National Park Service, Interior.

ACTION: Notice.

SUMMARY: The National Park Service is soliciting comments on the significance of properties nominated before September 2, 2017, for listing or related actions in the National Register of Historic Places.

DATES: Comments should be submitted by October 10, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before September 2, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Fourth Avenue Commercial Historic District, 4th Ave. from approx. 4th to 9th Sts., Tucson, SG100001726

CALIFORNIA

Santa Cruz County

Wee Kirk, 9500 Central Ave., Ben Lomond, SG100001730

CONNECTICUT

Fairfield County

Comstock, Abijah, House, 1328 Smith Ridge Rd., New Canaan, SG100001731

Middlesex County

Westbrook Town Center Historic District, Old Clinton at Hammock Rds., Boston Post Rd. at Bellstone Ave., Trolley Rd., Boston Post, Rd. at Goodspeed Dr., Westbrook, SG100001732

New London County

Hodges Square Historic District, Bolles, Eastern, Central, Crystal & Terrace Aves., Bragaw, Williams, Rosemary, Grove &, Adelaide Sts., New London, SG100001733

FLORIDA

Dade County

Monticello Hotel, 210 W. 63rd St., Miami Beach, SG100001737

Hernando County

Richloam General Store and Post Office, 38219 Richloam Clay Sink Rd., Webster vicinity, SG100001734

Jackson County

Longwood House, 5124 Fort Rd., Greenwood, SG100001735

Martin County

Golden Gate Building, 3225 SE. Dixie Hwy., Stuart, SG100001736

Wakulla County

Sopchoppy Depot, (Florida's Historic Railroad Resources MPS), 34 Rose St., Sopchoppy, MP100001738

IOWA

Polk County

Valley Junction Commercial Historic District, 100-318 5th St. (even side 300 only) & cross streets, West Des Moines, SG100001739

MAINE

Knox County

Tolman Cemetery, 39 Lake Ave., Rockland, SG100001741

MISSOURI

Jasper County

Pennington Drug Company, (Historic Resources of Joplin, Missouri), 512-520 Virginia Ave., Joplin, MP100001742

NORTH DAKOTA

Nelson County

Episcopal Church of the Good Shepard—Lakota, (Episcopal Churches of North Dakota MPS), 216 D Ave. W., Lakota, MP100001743

Pembina County

Dease—Martineau House, Trading Post and Oxcart Trail Segments, 13565 105th St. NE., Leroy vicinity, SG100001744

RHODE ISLAND

Washington County

University of Rhode Island Historic District, Campus & E. Alumni Aves., Farmhouse, Greenhouse, Lippitt, Lower College, Ranger &, Upper College Rds., South Kingstown, SG100001745

SOUTH CAROLINA

Charleston County

Sixth Naval District Training Aids Library, 1056 King St., Charleston, SG100001747

Georgetown County

Parrish's Motor Court, 5098 US 17 Bus., Murrells Inlet, SG100001748

York County

Sadler Store, 405 S. Congress St., York, SG100001749VERMONT

Chittenden County

Pine Street Industrial Historic District, Address Restricted, Burlington vicinity, SG100001751

An owner objection was received for the following resource:

CALIFORNIA

Solano County

Sperry Flour Company Valleo Mills Historic District, 800 Derr Ave., Vallejo, SG100001729

Additional documentation has been received for the following resources:

ARIZONA

Maricopa County

Del Norte Place Historic District, (Residential Subdivisions and Architecture in Phoenix MPS), Virginia Ave. to Encanto Blvd. and 15th to 17th Aves., Phoenix, AD94001482

ARKANSAS

Pulaski County

Hillcrest Historic District, Bounded by Woodrow, Jackson and Markham Sts. and N. Lookout Rd., Little Rock, AD90001920

Central High School Neighborhood Historic District, Roughly bounded by MLK Dr., Thayer Ave., W. 12th St., and Roosevelt Rd., Little Rock, AD96000892

KENTUCKY

Mercer County

Harrodsburg Downtown Historic District, Roughly bounded by Lexington, Greenville, and Chiles Sts., Moreland and Beaumont Aves., Harrodsburg, AD80001657

Nominations submitted by Federal Preservation Officers:

The State Historic Preservation Officer reviewed the following nominations and responded to the Federal Preservation Officer within 45 days of receipt of the nominations and supports listing the properties in the National Register of Historic Places.

SOUTH CAROLINA

Anderson County

United States Post Office and Court House, 315 S. McDuffie St., Anderson, SG100001746

TENNESSEE

Blount County

Look Rock Observation Tower, (Great Smoky Mountains National Park MPS), Foothills Pkwy. W., Walland vicinity, MP100001750

Authority: 60.13 of 36 CFR part 60.

Dated: September 7, 2017.
J. Paul Loether,
Chief, National Register of Historic Places/National Historic Landmarks Program and Keeper, National Register of Historic Places.

[FR Doc. 2017-20181 Filed 9-21-17; 8:45 am]

BILLING CODE 4312-52-P